DEPARTMENT OF AGRICULTURE

Forest Service

DEPARTMENT OF THE INTERIOR

Bureau of Land Management

Request for Information (RFI) on Federal Old-Growth and Mature Forests

AGENCY: Forest Service, Agriculture (USDA); Bureau of Land Management, Interior (DOI).

ACTION: Request for information; Extension of comment period.

SUMMARY: On July 15, 2022, the United States Department of Agriculture (USDA), United States Forest Service (Forest Service), and the United States Department of the Interior (DOI), Bureau of Land Management (BLM), published in the Federal Register a document entitled “Request for Information (RFI) on Federal Old-growth and Mature Forests” and invited public comments to inform the response to Executive Order Strengthening the Nation's Forests, Communities, and Local Economies which requires USDA and DOI to define old-growth and mature forests on Federal lands; complete an inventory and make it publicly available; coordinate conservation and wildfire risk reduction activities; identify threats to mature and old-growth forests; develop policies to address threats; develop Agency-specific reforestation goals by 2030; develop climate-informed reforestation plans; and develop recommendations for community-led local and regional economic development opportunities. In response to requests by prospective commenters that they would benefit from additional time to adequately consider and respond to the RFI, USDA Forest Service and DOI Bureau of Land Management have determined that an extension of the comment period until August 30, 2022, is appropriate.

DATES: The end of the comment period for the document entitled “Request for Information (RFI) on Federal Old-growth and Mature Forests” published July 15, 2022 (87 FR 42493), is extended from August 15, 2022, until August 30, 2022.

ADDRESSES: A webinar was held on Microsoft Teams web conferencing software on July 21, 2022. The webinar was recorded. Webinar presentation materials and the webinar recording, along with other information about this effort are posted to: https://www.fs.usda.gov/managing-land/old-growth-forests. Written comments concerning this notice may be submitted electronically to: https://cara.fs2c.usda.gov/Public/CommentInput?project=NP-3239.

FOR FURTHER INFORMATION CONTACT: Jamie Barbour, Assistant Director, Ecosystem Management Coordination, (503) 708-9138, roy.barbour@usda.gov. (Please include the words “Old Growth” in the subject line of emails concerning this notice). Individuals who use telecommunication devices for the deaf and hard of hearing (TDD) may call the Federal Relay Service (FRS) at 1-800-877-8339, 24 hours a day, every day of the year, including holidays.

SUPPLEMENTARY INFORMATION: The purpose of the July 15, 2022 RFI (87 FR 42493) is to inform the public and gather feedback on potential future implementation efforts associated with provisions of Executive Order (E.O.) 14072: Strengthening the Nation's Forests, Communities, and Local Economies, issued April 22, 2022. The information received through the RFI will help to inform the response to E.O. 14072 Section 2(b) specifically, which calls on the Secretaries of Agriculture and the Interior, within one year, to define, identify, and complete an inventory of old-growth and mature forests on Federal lands, accounting for regional and ecological variations, as appropriate, and making the inventory publicly available. The document stated that the comment period would close on August 15, 2022. The USDA Forest Service and DOI Bureau of Land Management have received requests by prospective commenters to extend the comment period. An extension of the comment period will provide additional opportunity for the public to consider the RFI and prepare comments to address the questions posed therein. Therefore, USDA Forest Service and DOI Bureau of Land Management are extending the comment period for the RFI from August 15, 2022, until August 30, 2022.

Christopher French,
Deputy Chief, National Forest System, Forest Service.
Tracy Stone-Manning,
Director, Bureau of Land Management.

[FR Doc. 2022-17447 Filed 8-12-22; 8:45 am]

BILLING CODE 4311-15-P